ENVIRONMENTAL PROTECTION AGENCY

[FRL-8724-1]

Clean Water Act Section 303(d): Availability of List Decisions

AGENCY: Environmental Protection Agency (EPA).

ACTION: Notice of availability.

SUMMARY: This notice announces the availability of EPA's Responsiveness Summary Concerning EPA's June 26, 2008 Public Notice of Final Decisions to Add Waters and Pollutants to Arkansas' 2008 Section 303(d) List.

On June 26, 2008, EPA published a notice in the Federal Register at Volume 73, Number 124, page 36319 providing the public the opportunity to review its final decisions to add waters and pollutants to Arkansas' 2008 Section 303(d) List as required by EPA's Public Participation regulations (40 CFR Part 25). Based on the Responsiveness Summary, EPA has decided to remove six waterbody-pollutant combinations identified in EPA's Final Action on Arkansas' 2008 Section 303(d) list based on additional information provided by the Arkansas Department of Environmental Quality (ADEQ). Furthermore, EPA is delisting five waterbody-pollutant combinations previously approved by EPA on June 18, 2008 based on information provided by GBMc & Associates. EPA is also adding one new waterbody-pollutant combination, Bayou DeView and aluminum, based on information provided by ADEQ. Therefore, EPA has revised its decision to disapprove Arkansas' decisions not to list 67 waterbody-pollutant combinations instead of the 73 waterbody-pollutant combinations proposed in EPA's Record of Decision for the 2008 Section 303(d) List. With the addition of Bayou DeView, EPA is adding 68 waterbody-pollutant combinations. A listing of these 68 waterbody-pollutant combinations along with priority rankings for inclusion on the 2008 Section 303(d) List can be found in Tables 2 and 4 of EPA's Responsiveness Summary. A listing of the five waterbody-pollutant combinations EPA is delisting can be found in Table 3 of EPA's Responsiveness Summary.

ADDRESSES: Copies of EPA's Responsiveness Summary Concerning EPA's June 26, 2008 Public Notice of Final Decisions to Add Waters and Pollutants to Arkansas; 2008 Section 303(d) List and the list of 68 waterbody-pollutant pairs can be obtained at EPA Region 6's Web site at http://www.epa.gov/region06/water/npdes/tmdl/index.htm, or by writing or calling Ms. Diane Smith at Water Quality Protection Division, U.S. Environmental Protection Agency Region 6, 1445 Ross Ave., Dallas, TX 75202-2733, telephone (214) 665-2145, facsimile (214) 665-6490, or e-mail: smith.diane@epa.gov. Underlying documents from the administrative record for these decisions are available for public inspection at the above address. Please contact Ms. Smith to schedule an inspection.

FOR FURTHER INFORMATION CONTACT: Diane Smith at (214) 665-2145.

SUPPLEMENTARY INFORMATION: Section 303(d) of the Clean Water Act (CWA) requires that each state identify those waters for which existing technology-based pollution controls are not stringent enough to attain or maintain state water quality standards. For those waters, states are required to establish Total Maximum Daily Loads (TMDLs) according to a priority ranking.

Consistent with EPA's regulations, Arkansas submitted to EPA its listing decisions under Section 303(d) on April 1, 2008. On June 18, 2008, EPA approved Arkansas' listing of 369 waterbody-pollutant combinations and associated priority rankings. EPA took neither an approval or disapproval action on 34 waters listed for beryllium and twenty (20) waterbody-pollutant pairs that appear to have been listed in error. EPA disapproved Arkansas' decisions not to list 73 waterbody-pollutant combinations. Based on the public comments, EPA has revised its decision to disapprove Arkansas's decision not to list 67 waterbody-pollutant combinations and added one additional waterbody-pollutant combination. A listing of these 68 waterbody-pollutant combinations along with priority rankings for inclusion on the 2008 Section 303(d) List can be found in Table 4 of EPA's Responsiveness Summary. Furthermore, based on public comments, EPA is reversing its approval decision for five waterbody-pollutant combinations in favor of delisting. A listing of these five waterbody-pollutant combinations which are being delisted can be found in Table 3 of EPA's Responsiveness Summary.

Dated: September 23, 2008.
Miguel I Flores,
Director, Water Quality Protection Division, Region 6.

[FR Doc. E8-23259 Filed 10-1-08; 8:45 am]

BILLING CODE 6560-50-P